DEPARTMENT OF JUSTICE

Membership of the Senior Executive Service Standing Performance Review Boards

AGENCY: Department of Justice.

ACTION: Notice of Department of Justice's standing members of the Senior Executive Service Performance Review Boards.

SUMMARY: Pursuant to the requirements of 5 U.S.C. 4314(c)(4), the Department of Justice announces the membership of its 2010 Senior Executive Service (SES) Standing Performance Review Boards (PRBs). The purpose of a PRB is to provide fair and impartial review of SES performance appraisals, bonus recommendations and pay adjustments. The PRBs will make recommendations regarding the final performance ratings to be assigned, SES bonuses and/or pay adjustments to be awarded.

FOR FURTHER INFORMATION CONTACT: Rod Markham, Director, Human Resources, Justice Management Division, Department of Justice, Washington, DC 20530; (202) 514-4350.

Lee J. Lofthus,
Assistant Attorney General for Administration.

Federal Register 2010
Name | Position Title
Office of the Attorney General—AG
BIES, JOHN E. | COUNSELOR TO THE ATTORNEY GENERAL
RICHARDSON, MARGARET | COUNSELOR TO THE ATTORNEY GENERAL FOR EXECUTIVE BRANCH RELATIONS
Office of the Deputy Attorney General—DAG
GRINDLER, GARY G. | PRINCIPAL ASSOCIATE DEPUTY ATTORNEY GENERAL
MARGOLIS, DAVID | ASSOCIATE DEPUTY ATTORNEY GENERAL
SCHOOLS, SCOTT N. | ASSOCIATE DEPUTY ATTORNEY GENERAL
DELERY, STUART F. | ASSOCIATE DEPUTY ATTORNEY GENERAL
WEINER, ROBERT N. | ASSOCIATE DEPUTY ATTORNEY GENERAL
MONACO, LISA | ASSOCIATE DEPUTY ATTORNEY GENERAL
BURROWS, CHARLOTTE | ASSOCIATE DEPUTY ATTORNEY GENERAL
BAKER, JAMES | ASSOCIATE DEPUTY ATTORNEY GENERAL
LIBIN, NANCY | CHIEF PRIVACY AND CIVIL LIBERTIES OFFICER
Office of the Associate Attorney General—OASG
GUERRA, JOSEPH R. | PRINCIPAL DEPUTY ASSOCIATE ATTORNEY GENERAL
GREENFELD, HELAINE ANN | DEPUTY ASSOCIATE ATTORNEY GENERAL
CHUN, A. MARISA | DEPUTY ASSOCIATE ATTORNEY GENERAL
HIRSCH, SAMUEL | DEPUTY ASSOCIATE ATTORNEY GENERAL
MASON, KAROL V. | DEPUTY ASSOCIATE ATTORNEY GENERAL
TRIBE, LARRY H. | SENIOR COUNSELOR FOR ACCESS TO JUSTICE
Office of the Solicitor General—OSG
KATYAL, NEAL K. | PRINCIPAL DEPUTY SOLICITOR GENERAL
KNEEDLER, EDWIN S. | DEPUTY SOLICITOR GENERAL
DREEBEN, MICHAEL R. | DEPUTY SOLICITOR GENERAL
STEWART, MALCOLM L. | DEPUTY SOLICITOR GENERAL
Antitrust Division—ATR
SOVEN, JOSHUA H. | CHIEF, LITIGATION I SECTION
HAMMOND, SCOTT D. | DEPUTY ASSISTANT ATTORNEY GENERAL
SIEGEL, MARC | DIRECTOR OF CRIMINAL ENFORCEMENT
DAVIS, NEZIDA S. | CHIEF, ATLANTA FIELD OFFICE
WATSON, SCOTT M. | CHIEF, CLEVELAND FIELD OFFICE
GIORDANO, RALPH T. | CHIEF, NEW YORK FIELD OFFICE
CONNOLLY, ROBERT E. | CHIEF, PHILADELPHIA FIELD OFFICE
WARREN, PHILLIP H. | CHIEF, SAN FRANCISCO FIELD OFFICE
ARMINGTON, ELIZABETH J. | ECONOMIST ADVISOR
HAND, EDWARD T. | CHIEF, FOREIGN COMMERCE SECTION
SCOTT JR., CLAUDE F. | ATTORNEY ADVISOR
Bureau of Alcohol, Tobacco, Firearms, and Explosives—ATF
MELSON, KENNETH E. | DEPUTY DIRECTOR
CHAIT, MARK R. | ASSISTANT DIRECTOR, FIELD OPERATIONS
MICHALIC, VIVIAN B. | CHIEF OF STAFF
TORRES, JULIE | DEPUTY ASSISTANT DIRECTOR, FIELD OPERATIONS—EAST
BOXLER, MICHAEL B. | DEPUTY ASSISTANT DIRECTOR, FIELD OPERATIONS—CENTRAL
MCMAHON JR., WILLIAM G. | DEPUTY ASSISTANT DIRECTOR, FIELD OPERATIONS—WEST
HERBERT, ARTHUR W. | ASSISTANT DIRECTOR, ENFORCEMENT PROGRAM AND SERVICES
FICARETTA, TERESA G. | DEPUTY ASSISTANT DIRECTOR, ENFORCEMENT PROGRAM
FORD, WILFRED L. | ASSISTANT DIRECTOR, OFFICE OF STRATEGIC INTELLIGENCE
MARTIN, STEPHEN K. | DEPUTY ASSISTANT DIRECTOR, OFFICE OF STRATEGIC INTELLIGENCE AND INFORMATION
MCDERMOND, JAMES E. | ASSISTANT DIRECTOR, OFFICE OF PUBLIC AND GOVERNMENTAL AFFAIRS
STINNETT, MELANIE S. | ASSISTANT DIRECTOR, OFFICE OF PROFESSIONAL
MASSEY, KENNETH | DEPUTY ASSISTANT DIRECTOR, OFFICE OF PROFESSIONAL RESPONSIBILITY AND SECURITY OPERATIONS
LOGAN, MARK | ASSISTANT DIRECTOR, TRAINING AND PROFESSIONAL RESPONSIBILITY AND SECURITY OPERATIONS
STUCKO, AUDREY M. | DEPUTY ASSISTANT DIRECTOR, TRAINING AND PROFESSIONAL DEVELOPMENT
HOLGATE, HENRY R. | ASSISTANT DIRECTOR, SCIENCE AND TECHNOLOGY
BELL, WILLIAM L. | DEPUTY ASSISTANT DIRECTOR, SCIENCE AND TECHNOLOGY
MCCABE III, HARRY L. | DEPUTY ASSISTANT DIRECTOR, INDUSTRY OPERATIONS
ETHRIDGE, MICHAEL W. | DIRECTOR, LABORATORY SERVICES
RUBENSTEIN, STEPHEN R. | CHIEF COUNSEL
LOOS, ELEANER R. | ASSOCIATE CHIEF COUNSEL, ADMINISTRATION AND ETHICS
GANT, GREGORY K. | SPECIAL AGENT IN CHARGE, ATLANTA
STOOP, THERESA R. | SPECIAL AGENT IN CHARGE, BALTIMORE
GRAHAM, ZEBEDEE T. | SPECIAL AGENT IN CHARGE, CHARLOTTE
TRAVER, ANDREW L. | SPECIAL AGENT IN CHARGE, CHICAGO
SADOWSKI, CHRISTOPHER P. | SPECIAL AGENT IN CHARGE, COLUMBUS
CHAMPION, ROBERT R. | SPECIAL AGENT IN CHARGE, DALLAS
RICHARDSON, MARVIN G. | SPECIAL AGENT IN CHARGE, DENVER
BRANDON, THOMAS E. | SPECIAL AGENT IN CHARGE, DETROIT
WEBB, JAMES D. | SPECIAL AGENT IN CHARGE, HOUSTON
GLEYSTEEN, MICHAEL P. | SPECIAL AGENT IN CHARGE, KANSAS CITY
TORRES, JOHN A. | SPECIAL AGENT IN CHARGE, LOS ANGELES
VIDO, PAUL J. | SPECIAL AGENT IN CHARGE, LOUISVILLE
BARRERA, HUGO J. | SPECIAL AGENT IN CHARGE, MIAMI
ANDERSON, GLENN N. | SPECIAL AGENT IN CHARGE, NASHVILLE
DURHAM, PHILLIP M. | SPECIAL AGENT IN CHARGE, NEW ORLEANS
TURK, RONALD B. | SPECIAL AGENT IN CHARGE, NEW YORK
HORACE, MATTHEW W. | SPECIAL AGENT IN CHARGE, NEWARK
POTTER, MARK W. | SPECIAL AGENT IN CHARGE, PHILADELPHIA
NEWELL, WILLIAM D. | SPECIAL AGENT IN CHARGE, PHOENIX
HERKINS, STEPHEN C. | SPECIAL AGENT IN CHARGE, SAN FRANCISCO
CRENSHAW, KELVIN N. | SPECIAL AGENT IN CHARGE, SEATTLE
ZAPOR, BERNARD J. | SPECIAL AGENT IN CHARGE, ST. PAUL
O'BRIEN, VIRGINIA T. | SPECIAL AGENT IN CHARGE, TAMPA
DOMENECH, EDGAR A. | SPECIAL AGENT IN CHARGE, WASHINGTON, D.C.
Bureau of Prisons—BOP
LAPPIN, HARLEY G. | DIRECTOR
WHITE, KIM M. | ASSISTANT DIRECTOR FOR HUMAN RESOURCES
LAIRD, PAUL A. | ASSISTANT DIRECTOR, INDUSTRIES, EDUCATION AND
KANE, THOMAS R. | ASSISTANT DIRECTOR, INFORMATION, POLICY, AND PUBLIC
ADAMS, VANESSA P. | ASSISTANT DIRECTOR, PROGRAM REVIEW DIVISION
THIGPEN SR., MORRIS L. | DIRECTOR, NATIONAL INSTITUTE OF CORRECTIONS
DALIUS, WILLIAM F. JR | ASSISTANT DIRECTOR FOR ADMINISTRATION
DODRILL, D. SCOTT | ASSISTANT DIRECTOR, CORRECTIONAL PROGRAMS DIVISION
SAMUELS, CHARLES E. JR | SENIOR DEPUTY ASSISTANT DIRECTOR OF CORRECTIONAL PROGRAMS DIVISION
KENNEY, KATHLEEN M. | ASSISTANT DIRECTOR, OFFICE OF GENERAL COUNSEL
KENDALL, PAUL F. | SENIOR COUNSEL
EICHENLAUB, LOUIS C. | REGIONAL DIRECTOR, MIDDLE ATLANTIC REGION
BERKEBILE, DAVID | WARDEN, USP, BIG SANDY, KY
HICKEY, DEBORAH A. | WARDEN, FMC, LEXINGTON, KY
HOGSTEN, KAREN F. | WARDEN, FCI, MANCHESTER, KY
CAULEY, EDWIN K. | WARDEN, FCI, MCDOWELL, WV
WILSON, ERIC D. | WARDEN, USP, MCCREARY, KY
CARAWAY, JOHN | WARDEN, FCI, CUMBERLAND, MD
REVELL, SARA M. | WARDEN, FCC, BUTNER, NC
JOHNS, TRACY W. | WARDEN, FCI, MEDIUM-I, BUTNER, NC
CASTILLO, JUAN D. | WARDEN, FCI, MEMPHIS, TN
O'BRIEN, TERENCE T. | WARDEN, USP, LEE, VA
STANSBERRY, PATRICIA R. | WARDEN, FCC, PETERSBURG, VA
ZIEGLER, JOEL | WARDEN, FCI, BECKLEY, WV
DEBOO, KUMA J. | WARDEN, FCI, GILMER, WV
NALLEY, MICHAEL K. | REGIONAL DIRECTOR, NORTH CENTRAL REGION
DANIELS, CHARLES A. | WARDEN, USP, HIGH, FLORENCE, CO
DAVIS, BLAKE R. | WARDEN, FCC, FLORENCE, CO
CROSS JR., JAMES | WARDEN, FCI, GREENVILLE, IL
HOLLINGSWORTH, LISA W. | WARDEN, USP, MARION, IL
RIOS, RICARDO | WARDEN, FCI, PEKIN, IL
MARBERRY, HELEN J. | WARDEN, FCC, TERRE HAUTE, IN
CHESTER, CLAUDE | WARDEN, USP, LEAVENWORTH, KS
JETT, BRIAN R. | WARDEN, FMC, ROCHESTER, MN
ANDERSON, MARTY C. | WARDEN, USMCFP, SPRINGFIELD, MO
HOLINKA-WURDEMAN, CAROL J. | WARDEN, FCI, OXFORD, WI
NORWOOD, JOSEPH L. | REGIONAL DIRECTOR, NORTHEAST REGION
GRONDOLSKY, JEFF F. | WARDEN, FMC, DEVENS, MA
ZICKEFOOSE, DONNA R. | WARDEN, FCI, FORT DIX, NJ
TERRELL, DUDLEY J. | WARDEN, MDC, BROOKLYN, NY
HASTINGS, SUZANNE R. | WARDEN, MCC, NEW YORK, NY
KILLIAN, JANICE M. | WARDEN, FCI, OTISVILLE, NY
SCHULT, DEBORAH G. | WARDEN, FCI, RAY BROOK, NY
MARTINEZ, RICARDO | WARDEN, FCC, ALLENWOOD, PA
HOLT, RONNIE R. | WARDEN, USP, CANAAN, PA
BLEDSOE, BRYAN A. | WARDEN, USP, LEWISBURG, PA
LONGLEY, ARCHELAUS | WARDEN, FCI, MCKEAN, PA
HUFFORD, HOWARD L. | WARDEN, FCI, SCHUYLKILL, PA
MALDONADO JR., GERARDO | REGIONAL DIRECTOR, SOUTH CENTRAL REGION
OUTLAW, TIMOTHY C. | WARDEN, FCC, FORREST CITY, AR
YOUNG JR., JOSEPH P. | WARDEN, FCC, OAKDALE, LA
SHERROD, WILLIAM | WARDEN, USP, POLLUCK, LA
LEDEZMA, HECTOR A. | WARDEN, FCI, EL RENO, OK
KASTNER, PAUL A. | WARDEN, FTC, OKLAHOMA CITY, OK
FOX, JOHN B. | WARDEN, FCC, BEAUMONT, TX
KEFFER, JOSEPH | WARDEN, FMC, CARSWELL, TX
JOSLIN, DANIEL M. | WARDEN, FCI, THREE RIVERS, TX
HOLT, RAYMOND E. | REGIONAL DIRECTOR, SOUTHEAST REGION
RATHMAN, JOHN T. | WARDEN, FCI, TALLADEGA, AL
DREW, DARRYL | WARDEN, FCC, COLEMAN, FL
MIDDLEBROOKS, SCOTT A. | WARDEN, USP, COLEMAN-I, COLEMAN, FL
AUGUSTINE, PAIGE A. | WARDEN, FCI, MARIANNA, FL
MCGREW, LINDA T. | WARDEN, FDC, MIAMI, FL
KELLER, JEFFERY A. | WARDEN, USP, ATLANTA, GA
HAYNES, ANTHONY | WARDEN, FCI, JESUP, GA
PEARSON, BRUCE A. | WARDEN, FCC, YAZOO CITY, MS
DREW, DARLENE | WARDEN, FCI, BENNETTSVILLE, SC
MITCHELL, MARY M. | WARDEN, FCI, EDGEFIELD, SC
RIVERA, MILDRED | WARDEN, FCI, ESTILL, SC
OWEN, JOHN R. | WARDEN, FCI, WILLIAMSBURG, SC
MARTINEZ, JERRY C. | WARDEN, MDC, GUAYNABO, PUERTO RICO
MCFADDEN, ROBERT E. | REGIONAL DIRECTOR, WESTERN REGION
SMITH, DENNIS R. | WARDEN, FCI, PHOENIX, AZ
APKER JR., LIONEL C. | WARDEN, USP, TUSCON, AZ
RIOS JR., HECTOR | WARDEN, USP, ATWATER, CA
IVES, RICHARD B. | WARDEN, FCI, HERLONG, CA
COPENHAVER, PAUL J. | WARDEN, FCI, MENDOTA, CA
SANDERS, LINDA L. | WARDEN, FCC, LOMPOC, CA
QUINTANA, FRANCISCO J. | WARDEN, FCC, VICTORVILLE, CA
THOMAS, JEFFREY E. | WARDEN, FCI, SHERIDAN, OR
Civil Division—CIV
ZWICK, KENNETH L. | DIRECTOR, OFFICE OF MANAGEMENT PROGRAMS
BRINKMANN, BETH S. | DEPUTY ASSISTANT ATTORNEY GENERAL
KOPP, ROBERT E. | DIRECTOR, APPELLATE STAFF
KANTER, WILLIAM G. | DEPUTY DIRECTOR, APPELLATE STAFF
LETTER, DOUGLAS N. | APPELLATE LITIGATION COUNSEL
STERN, MARK B. | APPELLATE LITIGATION COUNSEL
LOEB, ROBERT M. | SENIOR LEVEL APELLATE COUNSEL
MCINTOSH, SCOTT R. | SENIOR LEVEL APELLATE COUNSEL
HERTZ, MICHAEL F. | DEPUTY ASSISTANT ATTORNEY GENERAL
BRANDA, JOYCE R. | DIRECTOR, COMMERCIAL LITIGATION BRANCH
GRANSTON, MICHAEL D. | DEPUTY DIRECTOR, COMMERCIAL LITIGATION BRANCH
ANDERSON, DANIEL R. | DEPUTY DIRECTOR, COMMERCIAL LITIGATION BRANCH
KOHN, J. CHRISTOPHER | DIRECTOR, COMMERCIAL LITIGATION BRANCH
KIRSCHMAN JR., ROBERT E. | DEPUTY DIRECTOR, COMMERCIAL LITIGATION BRANCH
STEMPLEWICZ, JOHN | SENIOR TRIAL ATTORNEY
HOLLIS, ROBERT MARK | DIRECTOR, COMMERCIAL LITIGATION BRANCH
FARGO, JOHN J. | DIRECTOR, COMMERCIAL LITIGATION BRANCH
HAUSKEN, GARY L. | SENIOR PATENT ATTORNEY
DAVIDSON, JEANNE E. | DIRECTOR, COMMERCIAL LITIGATION BRANCH
SNEE, BRYANT G. | DEPUTY DIRECTOR, COMMERCIAL LITIGATION BRANCH
HUGHES, TODD M. | DEPUTY DIRECTOR, COMMERCIAL LITIGATION BRANCH
GERSHENGORN, IAN H. | DEPUTY ASSISTANT ATTORNEY GENERAL
GARVEY, VINCENT MORGAN | DEPUTY BRANCH DIRECTOR
SHAPIRO, ELIZABETH J. | DEPUTY BRANCH DIRECTOR
COPPOLINO, ANTHONY J. | SPECIAL LITIGATION COUNSEL
RIVERA, JENNIFER D. | BRANCH DIRECTOR
LIEBER, SHEILA M. | DEPUTY BRANCH DIRECTOR
RUDY, SUSAN K. | SENIOR TRIAL ATTORNEY
BAXTER, FELIX V. | BRANCH DIRECTOR
THIROLF, EUGENE M. | DIRECTOR, OFFICE OF CONSUMER LITIGATION
ORRICK, WILLIAM H. | DEPUTY ASSISTANT ATTORNEY GENERAL
HUSSEY, THOMAS W. | DIRECTOR, APPELLATE LITIGATION
MCCONNEL, DAVID M. | DEPUTY DIRECTOR, APELLATE SECTION
KLINE, DAVID J. | FEDERAL DISTRICT COURT SECTION
RAVEL, ANN MILLER | DEPUTY ASSISTANT ATTORNEY GENERAL
FROST, PETER F. | DIRECTOR, AVIATION AND ADMIRALITY SECTION
O'MALLEY, BARBARA B. | SPECIAL LITIGATION COUNSEL, AVIATION AND ADMIRALITY SECTION
GARREN, TIMOTHY PATRICK | DIRECTOR, CONSTITUTIONAL AND SPECIALIZED TORT LITIGATION SECTION
ROGERS, MARK W. | SENIOR TRIAL ATTORNEY, CONSTITUTIONAL SECTION
GLYNN, JOHN PATRICK | DIRECTOR, ENVIRONMENTAL TORT LITIGATION SECTION
PYLES, PHYLLIS J. | DIRECTOR, FEDERAL TORT CLAIMS ACT SECTION
HUNT, JOSEPH H. | BRANCH DIRECTOR
Civil Rights Division—CRT
GREENE, IRVA D. | EXECUTIVE OFFICER
SAMUELS, JOCELYN | COUNSELOR TO THE ASSISTANT ATTORNEY GENERAL
GINSBURG, JESSICA A. | COUNSEL TO THE ASSISTANT ATTORNEY GENERAL
KING, LORETTA | DEPUTY ASSISTANT ATTORNEY GENERAL
KAPPELHOFF, MARK JOHN | CHIEF, CRIMINAL SECTION
KOWALSKI, BARRY F. | SPECIAL LEGAL COUNSEL
BALDWIN, KATHERINE A. | DEPUTY SPECIAL COUNSEL FOR IMMIGRATION-RELATED UNFAIR EMPLOYMENT PRACTICES
AUSTIN, ROY | DEPUTY ASSISTANT ATTORNEY GENERAL
ROSENBAUM, STEVEN H. | CHIEF, HOUSING AND CIVIL ENFORCEMENT SECTION
FERNANDES, JULIE A. | DEPUTY ASSISTANT ATTORNEY GENERAL
HERREN JR., THOMAS C. | CHIEF, VOTING SECTION
COATES, H. CHRISTOPHER | COUNSELOR TO THE VOTING SECTION CHIEF
RODRIQUEZ, LEON (BGNSTS) | DEPUTY ASSISTANT ATTORNEY GENERAL
FLYNN, DIANA KATHERINE | CHIEF, APPELLATE SECTION
GROSS, MARK L. | COMPLAINT ADJUDICATION OFFICER
SILVER, JESSICA D. | SENIOR APPELLATE COUNSEL
WODATCH, JOHN L. | CHIEF, DISABILITY RIGHTS SECTION
BROWN-CUTLAR, SHANETTA Y. | CHIEF, SPECIAL LITIGATION SECTION
Criminal Division—CRM
WELCH II, WILLIAM M. | SENIOR LITIGATION COUNSEL
MORRIS, BRENDA K. | SENIOR LITIGATION COUNSEL
RAMAN, MYTHILI | PRINCIPAL DEPUTY ASSISTANT ATTORNEY GENERAL AND CHIEF OF STAFF
MASCHINO, KARL J. | DEPUTY EXECUTIVE OFFICER
WROBLEWSKI, JONATHAN J. | DIRECTOR, OFFICE OF POLICY AND LEGISLATION
ROGERS, RICHARD M. | SENIOR COUNSEL
KEENEY, JOHN C. | DEPUTY ASSISTANT ATTORNEY GENERAL
OHR, BRUCE G. | CHIEF, ORGANIZED CRIME AND RACKETEERING SECTION
O'BRIEN, PAUL M. | DIRECTOR, OFFICE OF ENFORCEMENT OPERATIONS
SMITH, JACK | CHIEF, PUBLIC INTEGRITY SECTION
HULSER, RAYMOND | DEPUTY CHIEF, PUBLIC INTEGRITY SECTION
AINSWORTH, PETER J. | SENIOR DEPUTY CHIEF, PUBLIC INTEGRITY SECTION
BLANCO, KENNETH A. | DEPUTY ASSISTANT ATTORNEY GENERAL
SHASKY, JENNIFER | CHIEF, ASSET FORFEITURE AND MONEY LAUNDERING SECTION
RAABE, WAYNE C. | DEPUTY CHIEF, NARCOTIC AND DANGEROUS DRUG SECTION
SWARTZ, BRUCE CARLTON | DEPUTY ASSISTANT ATTORNEY GENERAL
WARLOW, MARY ELLEN | DIRECTOR, OFFICE OF INTERNATIONAL AFFAIRS
ROBINSON, STEWART C. | DEPUTY DIRECTOR, OFFICE OF INTERNATIONAL AFFAIRS
TREVILLIAN IV, ROBERT C. | DIRECTOR, INTERNATIONAL CRIMINAL INVESTIGATIVE TRAINING ASSISTANCE PROGRAM
ALEXANDRE, CARL | DIRECTOR, OPDAT
WARREN, MARY LEE | SENIOR LITIGATION COUNSEL
JONES, JOESPH M. | SENIOR COUNSEL FOR INTERNATIONAL DEVELOPMENT AND TRAINING
MCINERNEY, DENIS J. | CHIEF, FRAUD SECTION
PELLETIER, PAUL E. | DEPUTY CHIEF FOR LITIGATION
STEMLER, PATTY MERKAMP | CHIEF, APPELLATE SECTION
GRIFFEY, MARGARET P. | SENIOR COUNSEL, OFFICE OF INTERNATIONAL AFFAIRS
CARWILE, P. KEVIN | CHIEF, CAPITAL CASE UNIT
WEINSTEIN, JASON | DEPUTY ASSISTANT ATTORNEY GENERAL
DUBOSE, MICHAEL M. | CHIEF, COMPUTER CRIME AND INTELLECTUAL PROPERTY SECTION
PAINTER, CHRISTOPHER M. | DEPUTY CHIEF, COMPUTER CRIME AND INTELLECTUAL PROPERTY SECTION
OOSTERBAAN, ANDREW | CHIEF, CHILD EXPLOITATION AND OBSCENITY SECTION
KING, DAMON A. | SENIOR LITIGATION COUNSEL, CHILD EXPLOITATION AND OBSCENITY SECTION
ROSENBAUM, ELI M. | DIRECTOR, HUMAN RIGHTS ENFORCEMENT STRATEGY AND POLICY
MCHENRY, TERESA L. | CHIEF, HUMAN RIGHTS AND SPECIAL PROSECUTION SECTION
Environmental and Natural Resources Division—ENRD
DREHER, ROBERT E. | PRINCIPAL DEPUTY ASSISTANT ATTORNEY GENERAL
KILBOURNE, JAMES C. | CHIEF, APPELLATE SECTION
ALEXANDER, S. CRAIG | CHIEF, INDIAN RESOURCES SECTION
CRUDEN, JOHN C. | DEPUTY ASSISTANT ATTORNEY GENERAL
GELBER, BRUCE S. | CHIEF, ENVIRONMENTAL ENFORCEMENT SECTION
FISHEROW, W. BENJAMIN | DEPUTY CHIEF, ENVIRONMENTAL ENFORCEMENT SECTION
MAHAN, ELLEN M. | DEPUTY CHIEF, ENVIRONMENTAL ENFORCEMENT SECTION
GRISHAW, LETITIA J. | CHIEF, ENVIRONMENTAL DEFENSE SECTION
VADEN, CHRISTOPHER S. | DEPUTY CHIEF, ENVIRONMENTAL DEFENSE SECTION
SHENKMAN, ETHAN | DEPUTY ASSISTANT ATTORNEY GENERAL
MITCHELL, STACEY H. | CHIEF, ENVIRONMENTAL CRIMES SECTION
RT, HOWARD P. | SENIOR LITIGATION COUNSEL
SIMMS, PATRICE L. | DEPUTY ASSISTANT ATTORNEY GENERAL
HAUGRUD, K. JACK | CHIEF, NATURAL RESOURCES SECTION
CLARK II, TOM C. | DEPUTY CHIEF, NATURAL RESOURCES SECTION
WILLIAMS, JEAN E. | CHIEF, WILDLIFE AND MARINE RESOURCES
DISHEROON, FRED R. | SENIOR LITIGATION COUNSEL ATTORNEY EXAMINER
HOANG, ANTHONY P. | SENIOR LITIGATION COUNSEL
Executive Office for Immigration Review—EOIR
OHLSON, KEVIN A. | DIRECTOR
NASCA, PAULA N. | ASSOCIATE DIRECTOR
OSUNA, JUAN P. | CHAIRMAN, BOARD OF IMMIGRATION APPEALS
NEAL, DAVID | VICE CHAIRMAN, BOARD OF IMMIGRATION APPEALS
ADKINS-BLANCH, CHARLES K. | ATTORNEY EXAMINER
COLE, PATRICIA A. | ATTORNEY EXAMINER
FILPPU, LAURI S. | ATTORNEY EXAMINER
GRANT, EDWARD R. | ATTORNEY EXAMINER
GREER, ANNE J. | ATTORNEY EXAMINER
GUENDELSBERGER, JOHN W. | ATTORNEY EXAMINER
HESS, FREDERICK | ATTORNEY EXAMINER
HOLMES, DAVID B. | ATTORNEY EXAMINER
MALPHRUS, GARRY D. | ATTORNEY EXAMINER
MILLER, NEIL P. | ATTORNEY EXAMINER
MULLANE, HUGH G. | ATTORNEY EXAMINER
PAULEY, ROGER ANDREW | ATTORNEY EXAMINER
WENDTLAND, LINDA S. | ATTORNEY EXAMINER
CREPPY, MICHAEL J. | CHIEF ADMINISTRATIVE HEARING OFFICER
O'LEARY, BRIAN M. | CHIEF IMMIGRATION JUDGE
SCHMIDT, PAUL W. | SENIOR IMMIGRATION JUDGE
STUTMAN, ROBIN M. | GENERAL COUNSEL
ESPENOZA, CECELIA MARIE | SENIOR ASSOCIATE GENERAL COUNSEL
VILLAGELIU, GUSTAVO D. | SENIOR ASSOCIATE GENERAL COUNSEL
Executive Office for Organized Crime Drug Enforcement Task Forces—OCDETF
PADDEN, THOMAS W. | DEPUTY DIRECTOR, OCDETF
Executive Office for U.S. Attorneys—EOUSA
JARRETT, HOWARD MARSHALL | DIRECTOR
BELL, SUZANNE L. | DEPUTY DIRECTOR
GUGULIS, KATHERINE C. | DEPUTY DIRECTOR ADMINISTRATION
BEVELS, LISA A. | CHIEF FINANCIAL OFFICER
MACKLIN, JAMES | GENERAL COUNSEL
WONG, NORMAN Y. | COUNSEL TO THE DIRECTOR
VILLEGAS, DANIEL A. | COUNSEL, LEGAL PROGAMS AND POLICY
FLESHMAN, JAMES MARK | CHIEF INFORMATION OFFICER
BAILIE, MICHAEL W. | DIRECTOR, OFFICE OF LEGAL EDUCATION
SMITH, DAVID L. | COUNSEL FOR LEGAL INITIATIVES
Executive Office for U.S. Trustees—EOUST
WHITE III, CLIFFORD J. | DIRECTOR
REDMILES, MARK A. | DEPUTY DIRECTOR, FIELD OPERATIONS
MILLER, JEFFREY M. | DEPUTY DIRECTOR, MANAGEMENT
Justice Management Division—JMD
LAURIA-SULLENS, JOLENE A. | DEPUTY ASSISTANT ATTORNEY GENERAL/CONTROLLER
O'LEARY, KARIN | DIRECTOR, BUDGET STAFF
SCHULTZ JR., WALTER H. | DEPUTY DIRECTOR, BUDGET STAFF, OPERATIONS AND FUNDS CONTROL
MORGAN, MELINDA B. | DIRECTOR, FINANCE STAFF
OLDS, CANDACE A. | DIRECTOR, ASSET FORFEITURE MANAGEMENT STAFF
JORDAN, WYEVETRA | APPROPRIATION LIAISON OFFICER
JOHNSTON, JAMES W. | DIRECTOR, PROCUREMENT SERVICES STAFF
CLAREY, KATHRYN L | SPECIAL ADVISOR FOR FINANCIAL MANAGEMENT INFORMATION TECHNOLOGY
ATSATT, MARILYNN B. | DEPUTY DIRECTOR, BUDGET STAFF, PROGRAMS AND PERFORMANCE
O'BRIEN, HOLLEY | DIRECTOR, DEBT COLLECTION MANAGEMENT STAFF
ALVAREZ, CHRISTOPHER C. | DEPUTY DIRECTOR (AUDITING), FINANCE STAFF
SANTANGELO, MARI BARR | DEPUTY ASSISTANT ATTORNEY GENERAL FOR HUMAN RESOURCES AND ADMINISTRATION (CHCO)
MARKHAM, ROD E. | DIRECTOR, HUMAN RESOURCES
NORRIS, J. TREVOR | DEPUTY DIRECTOR, HUMAN RESOURCES
TOSCANO JR., RICHARD A. | DIRECTOR, EQUAL EMPLOYMENT OPPORTUNITY STAFF
DUNLAP, JAMES L. | DIRECTOR, SECURITY AND EMERGENCY PLANNING STAFF
HAMILTON, EDWARD A. | DIRECTOR, FACILITIES AND ADMINISTRATIVE SERVICES STAFF
DEFALAISE, LOUIS | DIRECTOR, OFFICE OF ATTORNEY RECRUITMENT AND MANAGEMENT
HITCH, VANCE E. | DEPUTY ASSISTANT ATTORNEY GENERAL/CHIEF INFORMATION OFFICER
OLSON, ERIC R. | DEPUTY, CHIEF INFORMATION OFFICER FOR E-GOVERNMENT SERVICES STAFF
DEELEY, KEVIN | DEPUTY CHIEF INFORMATION OFFICER FOR IT SECURITY
HOLTGREWE, KENT L. | DIRECTOR, IT POLICY AND PLANNING STAFF
BEASLEY, ROGER | DIRECTOR, OPERATIONS SERVICES STAFF
MURRAY, JOHN W. | DIRECTOR, ENTERPRISE SOLUTIONS STAFF
WARREN, JEREMY B. | INFORMATION TECHNOLOGY SPECIALIST/CHIEF ARCHITECT
ALLEN, MICHAEL H. | DEPUTY ASSISTANT ATTORNEY GENERAL FOR POLICY, MANAGEMENT AND PLANNING/CHIEF OF STAFF
FRISCH, STUART | GENERAL COUNSEL
RODGERS, JANICE M. | DIRECTOR, DEPARTMENTAL ETHICS OFFICE
National Drug Intelligence Center—NDIC
WALTHER, MICHAEL F. | DIRECTOR
TOMLINSON, TONY | DEPUTY DIRECTOR
National Security Division—NSD
WIEGMANN, JOHN B. (BRAD) | PRINCIPAL DEPUTY ASSISTANT ATTORNEY GENERAL
WALTER, SHERYL L. | EXECUTIVE OFFICER
MULLANEY, MICHAEL J. | CHIEF, COUNTERTERRORISM SECTION
KEEGAN, MICHAEL | DEPUTY CHIEF, COUNTERTERRORISM SECTION
DION, JOHN J. | CHIEF, COUNTERESPIONAGE SECTION
PELAK, STEVEN W. | DEPUTY CHIEF, COUNTERESPIONAGE SECTION
GAUHAR, TASHINA | DEPUTY ASSISTANT ATTORNEY GENERAL
O'CONNOR, KEVIN | CHIEF, OVERSIGHT SECTION
BRADLEY, MARK A. | SPECIAL COUNSEL FOR OVERSIGHT SECTION
SANZ-REXACH, GABRIEL | CHIEF, OPERATIONS SECTION
EVANS, STUART | DEPUTY CHIEF, OPERATIONS SECTION
HINNEN, TODD | DEPUTY ASSISTANT ATTORNEY GENERAL
KENNEDY, J. LIONEL | SPECIAL COUNSEL FOR NATIONAL SECURITY
Office of Community Oriented Policing Services—COPS
MELEKIAN, BERNARD K. | DIRECTOR
Office of Information Policy—OIP
PUSTAY, MELANIE ANN | DIRECTOR
Office of the Inspector General—OIG
ROBINSON, GAIL A. | GENERAL COUNSEL
BLIER, WILLIAM M. | SENIOR COUNSELOR TO THE INSPECTOR GENERAL
SCHNEIDER, CYNTHIA A. | COUNSELOR TO THE INSPECTOR GENERAL
GULLEDGE, MICHAEL D. | ASSISTANT INSPECTOR GENERAL FOR EVALUATION AND INSPECTIONS
BEAUDET, RAYMOND J. | ASSISTANT INSPECTOR GENERAL FOR AUDIT
MARSKE, CARYN A. | DEPUTY ASSISTANT INSPECTOR GENERAL FOR AUDIT
MCLAUGHLIN, THOMAS F. | ASSISTANT INSPECTOR GENERAL INVESTIGATIONS
DORSETT, GEORGE l. | DEPUTY ASSISTANT INSPECTOR GENERAL FOR INVESTIGATIONS
PETERS, GREGORY T. | ASSISTANT INSPECTOR GENERAL FOR MANAGEMENT AND PLANNING
FORTINE, OCHOA, CAROL | ASSISTANT INSPECTOR GENERAL FOR OVERSIGHT AND REVIEW
Office of Intergovernmental and Public Liaison—OIPL
ROBERSON, PORTIA L. | DIRECTOR
Office of Justice Programs—OJP
LEARY, MARY LOU | PRINCIPAL DEPUTY ASSISTANT ATTORNEY GENERAL
MCGARRY, BETH | DEPUTY ASSISTANT ATTORNEY GENERAL, OPERATIONS MANAGEMENT
GREENHOUSE, DENNIS E. | DIRECTOR, COMMUNITY CAPACITY DEVELOPMENT OFFICE
MERKLE, PHILLIP | DIRECTOR, OFFICE OF ADMINISTRATION
PAULL, MARCIA K. | CHIEF FINANCIAL OFFICER
BENDA, BONNIE LEIGH | DEPUTY, CHIEF FINANCIAL OFFICER
IWANOW, WALTER | CHIEF INFORMATION OFFICER
MADAN, RAFAEL A. | GENERAL COUNSEL
BALDWIN, LINDA | SMART COORDINATOR
HENNEBERG, MAUREEN A. | DIRECTOR, OFFICE OF AUDIT, ASSESSMENT, AND MANAGEMENT
GARRY, EILEEN M. | DEPUTY DIRECTOR FOR PROGRAMS, BUREAU OF JUSTICE ASSISTANCE
GREENFELD, LAWRENCE A. | DEPUTY DIRECTOR, PLANNING, BUREAU OF JUSTICE
BURCH II, JAMES H. | DEPUTY DIRECTOR, POLICY AND MANAGEMENT, BUREAU OF JUSTICE PROGRAMS
SINCLAIR, MICHAEL D. | DEPUTY DIRECTOR, BUREAU OF JUSTICE STATISTICS
SCRIVNER, ELLEN M. | DEPUTY DIRECTOR
FEUCHT, THOMAS E. | EXECUTIVE SCIENCE ADVISOR, NATIONAL INSTITUTE OF JUSTICE
MORGAN, JOHN S. | ASSISTANT DIRECTOR, NATIONAL INSTITUTE OF JUSTICE, OFFICE OF SCIENCE AND TECHNOLOGY
HANES, MELODEE | COUNSELOR TO THE ADMINISTRATOR, OJJDP
ROBERTS, MARILYN M. | DEPUTY ADMINISTRATOR, OJJDP
AYERS, NANCY LYNN | DEPUTY ADMINISTRATOR FOR POLICY, OJJDP
Office of Legal Counsel—OLC
CEDARBAUM, JONATHAN | PRINCIPAL DEPUTY ASSISTANT ATTORNEY GENERAL
KOFFSKY, DANIEL L. | DEPUTY ASSISTANT ATTORNEY GENERAL
RHEE, JEANNIE S. | DEPUTY ASSISTANT ATTORNEY GENERAL
HART, ROSEMARY A. | SPECIAL COUNSEL
COLBORN, PAUL P. | SPECIAL COUNSEL
SINGDAHLSEN, JEFFREY P. | SENIOR COUNSEL
THOMPSON, KARL R. | COUNSEL
Office of Legal Policy—OLP
JONES, KEVIN ROBERT | DEPUTY ASSISTANT ATTORNEY GENERAL
THIEMANN, ROBYN L. | DEPUTY ASSISTANT ATTORNEY GENERAL
MORAN, MOLLY J. | DEPUTY ASSISTANT ATTORNEY GENERAL
ZUBRENSKY, MICHAEL | DEPUTY ASSISTANT ATTORNEY GENERAL
KARP, DAVID J. | SENIOR COUNSEL
Office of Legislative Affairs—OLA
AGRAST, MARK D. | DEPUTY ASSISTANT ATTORNEY GENERAL
APPELBAUM, JUDITH C. | DEPUTY ASSISTANT ATTORNEY GENERAL
BURTON, M. FAITH | SPECIAL COUNSEL
Office of Professional Responsibility—OPR
WISH, JUDITH B. | DEPUTY COUNSEL ON PROFESSIONAL RESPONSIBILITY
Office of Public Affairs—PAO
MILLER, MATTHEW A. | DIRECTOR
Office of the Federal Detention Trustee—OFDT
PEARSON, MICHAEL A. | FEDERAL DETENTION TRUSTEE
MUSEL, DAVID F. | DIRECTOR, JPATS
Office of Legal Policy—OLP
JONES, KEVIN ROBERT | DEPUTY ASSISTANT ATTORNEY GENERAL
THIEMANN, ROBYN L. | DEPUTY ASSISTANT ATTORNEY GENERAL
MORAN, MOLLY J. | DEPUTY ASSISTANT ATTORNEY GENERAL
ZUBRENSKY, MICHAEL | DEPUTY ASSISTANT ATTORNEY GENERAL
KARP, DAVID J. | SENIOR COUNSEL
Office of the Pardon Attorney—OPA
RODGERS, RONALD L. | PARDON ATTORNEY
Professional Responsibility Advisory Office—PRAO
DUNSTON, JERRI U. | DIRECTOR
Tax Division—TAX
DICICCO, JOHN | DEPUTY ASSISTANT ATTORNEY GENERAL
YOUNG, JOSEPH E. | EXECUTIVE OFFICER
SHATZ, EILEEN M. | SPECIAL LITIGATION COUNSEL
SERGI, JOSEPH A. | SENIOR TRIAL ATTORNEY
GIBSON, STUART D. | SENIOR TRIAL ATTORNEY
STEHLIK, NOREENE C. | SENIOR TRIAL ATTORNEY
LINDQUIST III, JOHN A. | SENIOR TRIAL ATTORNEY
SAWYER, THOMAS | SENIOR TRIAL ATTORNEY
HARTT III, GROVER | SENIOR TRIAL ATTORNEY
ROTHENBERG, GILBERT S. | CHIEF, APPELLATE SECTION
MELAND, DEBORAH | CHIEF, OFFICE OF REVIEW
MULLARKEY, DANIEL P. | CHIEF, CIVIL TRIAL SECTION, NORTHERN REGION
HEALD, SETH G. | CHIEF, CIVIL TRIAL SECTION, CENTRAL REGION
KEARNS, MICHAEL J. | CHIEF, CIVIL TRIAL SECTION, SOUTHERN REGION
HYTKEN, LOUISE P. | CHIEF, CIVIL TRIAL SECTION, SOUTHWESTERN REGION
HUBBERT, DAVID A. | CHIEF, CIVIL TRIAL SECTION, EASTERN REGION
WARD, RICHARD | CHIEF, CIVIL TRIAL SECTION, WESTERN REGION
FRAHM, STEVEN L. | CHIEF, CLAIMS COURT SECTION
DONOHUE, DENNIS M. | SENIOR LITIGATION COUNSEL
PAGUNI, ROSEMARY E. | CHIEF, CRIMINAL ENFORCEMENT SECTION, NORTHERN REGION
SALAD, BRUCE M. | CHIEF, CRIMINAL ENFORCEMENT SECTION, SOUTHERN REGION
CIMINO, RONALD ALLEN | CHIEF, CRIMINAL ENFORCEMENT SECTION, WESTERN REGION
DOWNING, KEVIN M. | SENIOR TRIAL ATTORNEY
SMITH, COREY J. | SENIOR TRIAL ATTORNEY
U.S. Marshals Service—USMS
DUDLEY, CHARLES C. | DEPUTY DIRECTOR
DONOVAN, DONALD S. | ASSOCIATE DIRECTOR, ADMINISTRATION
FINAN, ROBERT J., II | ASSOCIATE DIRECTOR, OPERATIONS
AUERBACH, GERALD | GENERAL COUNSEL
CALLAGHAN, DARLA KAY | ASSISTANT DIRECTOR, HUMAN RESOURCES
EARP, THOMAS M. | ASSISTANT DIRECTOR, INVESTIGATIVE OPERATIONS
DAVIS, LISA M. | ASSISTANT DIRECTOR, INFORMATION TECHNOLOGY
JONES, SYLVESTER E. | ASSISTANT DIRECTOR, WITNESS SECURITY
PROUT, MICHAEL J. | ASSISTANT DIRECTOR, JUDICIAL SECURITY
ROLSTAD, SCOTT C. | ASSISTANT DIRECTOR FOR JUSTICE PRISONER AND ALIEN TRANSPORTATION SYSTEMS (JPATS)
SNELSON, WILLIAM D. | ASSISTANT DIRECTOR, TACTICAL OPERATIONS
MORALES, EBEN | ASSISTANT DIRECTOR, ASSET FORFEITURE
SYMONDS, CANDRA S. | ASSISTANT DIRECTOR, PRISONER OPERATIONS
DOLAN, EDWARD | SPECIAL ASSISTANT FOR FINANCIAL SYSTEMS

[FR Doc. 2010-24027 Filed 9-23-10; 8:45 am]

BILLING CODE P